DEPARTMENT OF TRANSPORTATION

Federal Railroad Administration

[Docket No. FRA-2023-0002-N-20]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before September 5, 2023.

ADDRESSES: Written comments and recommendations for the proposed ICR should be submitted on regulations.gov to the docket, Docket No. FRA-2023-0002. All comments received will be posted without change to the docket, including any personal information provided. Please refer to the assigned OMB control number (2130-0524) in any correspondence submitted. FRA will summarize comments received in response to this notice in a subsequent notice and include them in its information collection submission to OMB for approval.

FOR FURTHER INFORMATION CONTACT: Ms. Joanne Swafford, Information Collection Clearance Officer, at email: joanne.swafford@dot.gov or telephone: (757) 897-9908 or Ms. Arlette Mussington, Information Collection Clearance Officer, at email: arlette.mussington@dot.gov or telephone: (571) 609-1285.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal statutes and regulations mandate. In summary, FRA reasons that comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Railroad Communications.

OMB Control Number: 2130-0524.

Abstract: The railroad communications regulations in 49 CFR part 220 prescribe the minimum requirements governing wireless communications used in rail operations as well as establish the prohibitions, restrictions, and requirements that apply to the use of personal and railroad-supplied cellular telephones and other electronic devices. FRA amended its radio standards and procedures to: promote compliance by making the regulations more flexible; require wireless communications devices, including radios, for specified classifications of railroad operations and roadway workers; and retitle this part to reflect its coverage of other means of wireless communications, such as cellular telephones and data radio terminals, to convey emergency and need-to-know information. The amended regulations established safe, uniform procedures covering the use of radio and other wireless communications within the railroad industry.

In this 60-day notice, FRA made no adjustments to the previously approved burden hours.

Type of Request: Extension without change (with changes in estimates) of a currently approved collection.

Affected Public: Businesses.

Form(s): N/A.

Respondent Universe: 746 Railroads.

Frequency of Submission: On Occasion.

Reporting Burden
CFR section | Respondent universe | Total annual responses | Average time per responses | Total annual burden hours | Total cost equivalent in U.S. dollar
|  | (A) | (B) | (C = A * B) | (D = C * wage ¹ rates)
220.8—Waivers petitions | 746 railroads | 2 petition letters | 1 hour | 2 hours | $126.14
220.13—Reporting emergencies | The requirements for this section are the usual and customary practice as well as the railroad's legal obligation. Consequently, there is no burden associated with these requirements.
220.21—Railroad operating rules—radio communications—recordkeeping | The burden for this requirement is included under OMB Control No. 2130-0035 § 217.7 and 2130-0035 § 218.22.
220.23—Publication of radio information | The requirements for this section are the usual and customary procedure. Consequently, there is no burden associated with these requirements.
220.31—Initiating a radio transmission | The requirements for this section are the usual and customary procedure. Consequently, there is no burden associated with these requirements.
220.33—Receiving a radio transmission | The requirements for this section are the usual and customary procedure. Consequently, there is no burden affiliated with these requirements.
220.35—Ending a radio transmission | The requirements for this section are the usual and customary procedure. Consequently, there is no burden connected with these requirements.
220.38—Communication equipment failure | The requirements for this section are the usual and customary procedure. Consequently, there is no burden linked to these requirements.
220.47—Emergency radio transmissions | The requirements for this section are the usual and customary procedure. Consequently, there is no burden associated with these requirements.
220.61(b)(3)—Transmission of mandatory directive | 746 railroads | 3,800,000 directives | 90 seconds | 95,000 hours | 5,991,650.00
(b)(5)—Marking of fulfilled or canceled mandatory directives | 746 railroads | 317,000 marks | 10 seconds | 881 hours | 55,564.67
220.302—Operating rules implementing the requirements of this subpart | The burden for this requirement is included under OMB Control No. 2130-0035 § 217.7.
220.313(a)—Railroad written program of instruction and examination on part 220 requirements | 2 new railroads | 2 amended written Instruction Programs | 1 hour | 2 hours | 126.14
220.313(c)—Employee training records | 746 railroads | 2,000 records | 30 seconds | 17 hours | 1,072.19
220.315—Operational Tests and Inspections | The burden for this requirement is included under OMB No. 2130-0035 § 217.11 and OMB No. 2130-0576 § 238.503.
Total | 746 railroads | 4,119,004 responses |  | 95,902 hours | 6,048,539.14

Total Estimated Annual Responses: 4,119,004.

¹ The dollar equivalent cost is derived from the 2022 Surface Transportation Board Full Year Wage A&B data series using the employee group 600 (Transportation, Train & Engine) hourly wage rate of $36.04. The total burden wage rate (Straight time plus 75%) used in the table is $63.07 ($36.04 × 1.75 = $63.07).

Total Estimated Annual Burden: 95,902.

Total Estimated Annual Burden Hour Dollar Cost Equivalent: $6,048,539.14.

FRA informs all interested parties that it may not conduct or sponsor, and a respondent is not required to respond to, a collection of information that does not display a currently valid OMB control number.

Authority: 44 U.S.C. 3501-3520.

Brett A. Jortland,
Deputy Chief Counsel.

[FR Doc. 2023-14106 Filed 7-3-23; 8:45 am]

BILLING CODE 4910-06-P